DEPARTMENT OF THE INTERIOR

Bureau of Land Management

[WY-030-1310-DB]

Notice of Availability of Draft Environmental Impact Statement for the Desolation Flats Natural Gas Field Development Project.

AGENCY: Bureau of Land Management, Interior.

ACTION: Notice of availability of Draft Environmental Impact Statement for the Desolation Flats Natural Gas Field Development Project.

SUMMARY: The Bureau of Land Management (BLM) announces the availability of the Desolation Flats Natural Gas Field Development Project Draft Environmental Impact Statement (DEIS) which analyzes the environmental consequences of the proposed Desolation Flats natural gas development and production operation. Expansion of natural gas exploration and development is proposed in and adjacent to other oil and gas developments in the Willow Reservoir, Wedge, Mulligan Draw, Powder Mountain, Desolation Flats, Ruger, Dripping Rock, Cedar Chest, Triton, Lookout Wash Units, and the surrounding areas, collectively referred to as the Desolation Flats Area. The 233,542 acre Desolation Flats project area is located within the administrative jurisdictions of the BLM Rawlins and Rock Springs Field Offices, approximately 21 miles south of Wamsutter, Wyoming, and 14 miles west of Baggs, Wyoming, in Townships 13-16 North, Ranges 93-96 West, Sixth Principal Meridian, Sweetwater and Carbon Counties, Wyoming. Surface owners of the project area lands are: Federal Government, 96 percent; private, 3 percent; and the State of Wyoming, less than 1 percent. Currently, there are approximately 63 oil and gas wells drilled within the proposed project area. If approved, up to 592 additional wells could be drilled over the next 20 years.

DATES: Written comments on the DEIS will be accepted for 60 days following the date the Environmental Protection Agency (EPA) publishes its Notice of Availability of the DEIS in the Federal Register.

Two formal hearings are scheduled to obtain public comments on the proposed project and the DEIS at the BLM Rock Springs Field Office, Rock Springs, Wyoming; and at the BLM Rawlins Field Office, Rawlins, Wyoming. All meetings or hearings and any other public involvement activities will be announced at least 15 days in advance through public notices, media news releases, and/or mailings.

ADDRESSES: If you wish to comment, you may submit your comments by any one of several methods. You may send written comments to: John Spehar, Project Manager, Rawlins Field Office, Bureau of Land Management, 1300 N. Third Street, P.O. Box 2407, Rawlins, Wyoming 82301. You may also comment via the Internet to: rawlins_wymail@blm.gov. Please submit Internet comments as an ASCII file avoiding the use of special characters and any form of encryption.

Please also include: “Attn: Desolation Flats Project Manager” and your name and return address in your Internet message. If you do not receive a confirmation from the system that we have received your Internet message, contact us directly at the BLM Rawlins Field Office, John Spehar, 307-328-4264. You may hand-deliver comments to Rawlins Field Office, Bureau of Land Management, 1300 N. Third Street, Rawlins, Wyoming, between the hours of 7:30 a.m. and 4:30 p.m., Monday through Friday, excluding Federal holidays.

FOR FURTHER INFORMATION CONTACT: For further information including public meeting times, dates, and locations or to obtain a copy of the DEIS, contact John Spehar, telephone 307-328-4264 or you may view or download an electronic version of the document from our BLM State Web site at http://www.wy.blm.gov.

SUPPLEMENTARY INFORMATION: Marathon Oil Company, EOG Resources, Inc., Tom Brown, Inc., Basin Exploration, Inc., Yates Petroleum Corporation, Questar Exploration and Production Company, Merit Energy Company, Santa Fe Snyder Corporation and other companies (Operators) have submitted a proposal to drill up to 592 wells in the Desolation Flats area. Over the next 20 years, the Operators propose to explore and develop the oil and gas resources held through their existing leases within the Desolation Flats Project Area. Well density would range from two wells per 640 acres to four wells per 640 acres, depending on geologic conditions.

The Desolation Flats DEIS analyzes the impacts of the Proposed Action: economic field development of 385 natural gas wells at 361 well locations and associated access roads (approximately 542 miles of new or upgraded), pipelines (approximately 361 miles), and other ancillary facilities (one gas processing plant, four compressor stations, water disposal sites, etc.). The DEIS also analyzes Alternative A, which is similar to the Proposed Action but would expand well development into the economically marginal areas of the leases and increase the density of wells. Alternative A proposes to increase the number of wells to approximately 592 wells at 555 locations with a proportional increase of access roads (approximately 833 of new or upgraded), pipelines (555 miles) and other ancillary facilities (two gas processing plants, six compressor stations, water disposal sites etc.).

Alternative B is the No Action Alternative. This alternative would deny the proposal as submitted but would allow consideration of individual APDs on Federal lands on a case-by-case basis through individual project and site-specific environmental analysis. No Action would allow drilling and development of 23 additional wells in the Mulligan Draw project area, and drilling and development of 34 additional wells in the Dripping Rock/Cedar Breaks project area. Drilling outside the Mulligan Draw and Dripping Rock/Cedar Break project areas but within the DFPA project area could continue on a case-by-case basis until BLM made a determination that further drilling activity would result in field development.

Based upon issues and concerns identified during the scoping process, the DEIS focuses on the impacts to air quality, biological and physical resources, transportation, and socio-economic environment and their cumulative effects. In compliance with Section 7(c) of the Endangered Species Act as amended, this DEIS includes the Biological Assessment that identifies endangered or threatened species that would potentially be affected by the Proposed Action.

The proposed Desolation Flats Natural Gas Field Development activities are in conformance with the Great Divide Resource Management Plan (USDI-BLM 1990), and Green River Resources Management Plan (USDI-BLM 1997).

Our practice is to make comments, including the names and street addresses of each respondent, available for public review at the BLM offices listed above during regular business hours (7:45 a.m. to 4:30 p.m.), Monday through Friday, except for Federal holidays. Your comments may be published as part of the EIS process. Individual respondents may request confidentiality. If you wish to withhold your name and/or street address from public review or from disclosure under the Freedom of Information Act, you must state this prominently at the beginning of your written comment. Such requests will be honored to the extent allowed by law. However, we will not consider anonymous comments. All submissions from organizations or businesses, and from individuals identifying themselves as representatives or officials of organizations or businesses, will be made available for public inspection in their entirety.

Dated: March 10, 2003.
Alan L. Kesterke,
Associate State Director.

[FR Doc. 03-9668 Filed 4-24-03; 8:45 am]

BILLING CODE 4310-22-P